DEPARTMENT OF AGRICULTURE

Rural Housing Service

Request for Proposals: Farm Labor Housing Technical Assistance Grants

AGENCY: Rural Housing Service, USDA.

ACTION: Notice.

SUMMARY: This Request for Proposal (RFP) announces an availability of funds and the timeframe to submit proposals for Farm Labor Housing Technical Assistance (FLH-TA) grants. Section 516(i) of the Housing Act of 1949, as amended (Act), authorizes the Rural Housing Service (RHS) to provide financial assistance (grants) to eligible private and public non-profit agencies to encourage the development of domestic and migrant farm labor housing projects. This RFP requests proposals from qualified private and public non-profit agencies to provide technical assistance to groups who qualify for FLH loans and grants.

Work performed under these grants is expected to result in an increased submission of quality applications for FLH loans and grants under the Section 514 and Section 516 programs and as a result an increase in the availability of decent, safe, and sanitary housing for farm laborers.

DATES: The deadline for receipt of all applications in response to this RFP is 5:00 p.m., Eastern Daylight Time, on July 22, 2016. The application closing deadline is firm as to date and hour. RHS will not consider any application that is received after the closing deadline. Applicants intending to mail applications must provide sufficient time to permit delivery on or before the closing deadline. Acceptance by a post office or private mailer does not constitute delivery. Facsimile (FAX), Cash on Delivery (COD), and postage due applications will not be accepted.

ADDRESSES: Applications should be submitted to the USDA—Rural Housing Service; Attention: Mirna Reyes-Bible, Finance and Loan Analyst, Multi-Family Housing Preservation and Direct Loan Division, STOP 0781 (Room 1243-S), USDA Rural Development, 1400 Independence Avenue SW., Washington, DC 20250-0781. RHS will date and time stamp incoming applications to evidence timely receipt and, upon request, will provide the applicant with a written acknowledgement of receipt.

FOR FURTHER INFORMATION CONTACT: Mirna Reyes-Bible, Finance and Loan Analyst, Multi-Family Housing Preservation and Direct Loan Division, STOP 0781 (Room 1243-S), USDA Rural Development, 1400 Independence Avenue SW., Washington, DC 20250-0781, telephone: (202) 720-1753 (this is not a toll free number), or via email: mirna.reyesbible@wdc.usda.gov.

SUPPLEMENTARY INFORMATION:

Overview Information

Federal Agency Name: Rural Housing Service.

Funding Opportunity Title: Request for Proposals (RFP): Farm Labor Housing Technical Assistance Grants.

Announcement Type: Initial Announcement.

Catalog of Federal Domestic Assistance: 10.405.

Dates: The deadline for receipt of all applications in response to this RFP is 5:00 p.m., Eastern Daylight Time, on July 22, 2016. The application closing deadline is firm as to date and hour. RHS will not consider any application that is received after the closing deadline. Applicants intending to mail applications must provide sufficient time to permit delivery on or before the closing deadline. Acceptance by a post office or private mailer does not constitute delivery. Facsimile (FAX), COD, and postage due applications will not be accepted.

I. Program Description

The technical assistance grants authorized under Section 516 of the Act are for the purpose of encouraging the development of domestic and migrant FLH projects under Sections 514 and 516 of the Act. RHS regulations for Section 514 and Section 516 FLH program are published at 7 CFR part 3560. Further requirements for technical assistance grants can be found at 7 CFR part 3560, subpart L. Proposals must demonstrate the capacity to provide the intended technical assistance.

II. Award Information

RHS will publish on its Web site, http://www.rd.usda.gov/programs-services/farm-labor-housing-direct-loans-grants, the amount of funding available in FY 2016. RHS intends to award one grant for each of three geographic regions listed below. When establishing the three regions, and amount of funding available for each region, consideration was given to such factors as farmworker migration patterns and the similarity of agricultural products and labor needs within certain areas of the United States. A single applicant may submit grant proposals for more than one region; however, separate proposals must be submitted for each region.

Eastern Region: AL, CT, DE, FL, GA, IN, KY, MA, MD, ME, NH, NJ, NY, NC, OH, PA, PR, RI, SC, TN, VI, VT, VA, and WV.

Central Region: AR, IL, IA, KS, LA, MI, MN, MS, MO, NE., ND, OK, SD, TX, NM, and WI.

Western Region: AK, AZ, CA, CO, HI, ID, MT, NV, OR, UT, WA, WY, Pacific Territories, and Regions

The RHS has the authority under the Act to utilize up to 10 percent of its Section 516 appropriations for FLH-TA grants. The disbursement of grant funds during the grant period will be contingent upon the applicant making progress in meeting the minimum performance requirements as described in the Scope of Work section of this Notice, and the Grant Agreement including, but not limited to, the submission of loan application packages.

III. Eligibility Information

Eligible Applicants: Eligibility for grants under this Notice is limited to private and public non-profit agencies. Applicants must have the knowledge, ability, technical expertise, or practical experience necessary to develop and package loan and grant applications for FLH under the Section 514 and Section 516 programs (see Section IV. Application and Submission Information). In addition, applicants must possess the ability to exercise leadership, organize work, and prioritize assignments to meet work demands in a timely and cost efficient manner. The applicant may arrange for other non-profit agencies to provide services on its behalf; however, the RHS will expect the applicant to provide the overall management necessary to ensure the objectives of the grant are met. Non-profit agencies acting on behalf of the applicant must also meet the eligibility requirements stated above.

Cost Sharing or Matching: Cost sharing is not applicable to this program.

Minimum Performance Requirements

(1) Applicants shall conduct outreach to broad-based non-profit organizations, non-profit organizations of farmworkers, federally recognized Indian tribes, agencies or political subdivisions of State or local Government, public agencies (such as housing authorities) and other eligible FLH organizations to further the Section 514 and Section 516 FLH programs. Outreach will consist of a minimum of 12 informational presentations to the general public annually to inform them about the Section 514 Section and 516 FLH programs.

(2) Applicants shall conduct at least 12 one-on-one meetings annually with groups who are interested in applying for FLH loans or grants and assist such groups with the loan and grant application process.

(3) Applicants shall assist loan and grant applicants secure funding from other sources for the purpose of leveraging those funds with RHS funds.

(4) Applicants shall provide technical assistance during the development and construction phase of FLH proposals selected for funding.

(5) When submitting a grant proposal, applicants need not identify the geographic location of the places they intend to target for their outreach activities, however, applicants must commit to targeting at least five areas within the grant proposal's region. All targeted areas must be distinct market areas and not be overlapping. At least four of the targeted areas must be in different States. If the proposal is selected for funding, the applicant will be required to consult with each Rural Development State Director in the proposal's region for the purpose of developing their list of targeted areas. When determining which areas to target, consideration will be given to (a) the total number of farmworkers in the area, (b) the number of farmworkers in that area who lack adequate housing, (c) the percentage of the total number of farmworkers that are without adequate housing, and (d) areas which have not recently had a Section 514 or Section 516 loan or grant funded for new construction. In addition, if selected for funding, the applicant will be required to revise their Statement of Work to identify the geographic location of the targeted areas and will submit their revised Statement of Work to the National Office approval. When submitted for approval, the applicant must also submit a summary of their consultation with the Rural Development State Directors. At grant closing, the revised Statement of Work will be attached to, and become a part of, the grant agreement.

(6) During the grant period, each applicant must submit a minimum number of loan application packages to the Agency for funding consideration. The minimum number shall be the greater of (a) at least nine loan application packages for the Eastern and Western Regions and at least seven for the Central Region or, (b) a total number of loan application packages that is equal to 70 percent of the number of areas the applicant's proposal committed to targeting. Fractional percentages shall be rounded up to the next whole number. For example, if the applicant's proposal committed to targeting 13 areas, then the applicant must submit at least 10 loan application packages during the grant period (13 areas × 70 percent = 9.1 rounded up to 10). The disbursement of grant funds during the grant period will be contingent upon the applicant making progress in meeting this minimum performance requirement. More than one application package for the same market area will not be considered unless the applicant submits documentation of the need for more than one FLH facility.

(7) Provide training to applicants of FLH loans and grants to assist them in their ability to manage FLH.

IV. Application and Submission Information

Intergovernmental Review. The Technical Assistant program is not subject to the provisions of Executive Order 12372, which require intergovernmental consultation with State and local officials. Expenses incurred in applying for this Notice will be borne by and be at the applicant's risk.

The application process will be in two phases; the initial application (or proposal) and the submission of a formal application. Only those proposals that are selected for funding will be invited to submit formal applications. All proposals must include the following:

(1) A summary page listing the following items. This information should be double-spaced between items and not be in narrative form.

a. Applicant's name,

b. Applicant's Taxpayer Identification Number,

c. Applicant's address,

d. Applicant's telephone number,

e. Name of applicant's contact person, telephone number, and address,

f. Amount of grant requested,

g. The FLH-TA grant region for which the proposal is submitted (i.e., Eastern, Central, or Western Region), and

h. Address unique entity identifier and System for Award Management (SAM). As part of the application, all applicants, except for individuals or agencies excepted under 2 CFR 25.110(d), must be: (1) Registered in the System for Award Management (SAM); (2) provide a valid unique entity identifier in its applications; and (3) maintain an active SAM registration with current information at all times during which it has an active Federal award or application. An award may not be made to the applicant until the applicant has complied with the unique entity identifier and SAM requirements.

(2) A narrative describing the applicant's ability to meet the eligibility requirements stated in this Notice. If the applicant intends to have other agencies working on their behalf, the narrative must identify those agencies and address their ability to meet the stated eligibility requirements.

(3) A detailed Statement of Work covering a 3-year period that contains measurable monthly and annual accomplishments. The applicant's Statement of Work is a critical component of the selection process. The Statement of Work must include an outreach component describing the applicant's activities to inform potentially eligible groups about the Section 514 and Section 516 FLH program. The outreach component must include a schedule of their planned outreach activities and must be included in a manner so that performance can be measured. In addition, the outreach activities must be coordinated with the appropriate RHS State Office and meet the minimum performance requirements as stated in the Scope of Work section of this Notice. The Statement of Work must state how many areas the applicant will target for their outreach activities (Note: If selected for funding, the applicant will be required to revise their Statement of Work, after consultation with Rural Development State Directors, to identify the areas that will be targeted). The Statement of Work must also include a component for training organizations on the application process and the long-term management of FLH. The Statement of Work will also describe the applicant's plans to access other funding for the development and construction of FLH and their experience in obtaining such funding. The Statement of Work must describe any duties or activities that will be performed by other agencies on behalf of the applicant.

(4) An organizational plan that includes a staffing chart complete with name, job title, salary, hours, timelines, and descriptions of employee duties to achieve the objectives of the grant program.

(5) Organizational documents and financial statements to evidence the applicant's status as a properly organized private or public non-profit agency and the financial ability to carry out the objectives of the grant program. If other agencies will be working on behalf of the applicant, working agreements between the applicant and those agencies must be submitted as part of the proposal and any associated cost must be included in the applicant's budget. Organizational and financial statements must also be submitted as part of the application for any agencies that will be working on behalf of the applicant to document the eligibility of those organizations.

(6) A detailed budget plan projecting the monthly and annual expenses the applicant will incur. Costs will be limited to those that are allowed under 2 CFR part 200.

(7) To insure that funds are equitably distributed and that there is no duplication of efforts on related projects, all applicants are to submit a list of projects they are currently involved with, whether publicly or privately supported, that are or may be, related to the objectives of this grant. In addition, the same disclosure must be provided for any agencies that will be working on behalf of the applicant.

(8) The applicant must include a narrative describing its knowledge, demonstrated ability, or practical experience in providing training and technical assistance to applicants of loans or grants for the development of multi-family or farmworker housing. The applicant must identify the type of assistance that was applied for (loan or grant, tax credits, leveraged funding, etc.), the number of times they have provided such assistance, and the success ratio of their applications. In addition, information must be provided concerning the number of housing units, their size, their design, and the amount of grant and loan funds that were secured.

(9) A narrative describing the applicant's knowledge and demonstrated ability in estimating development and construction costs of multi-family or farm labor housing and for obtaining the necessary permits and clearances.

(10) A narrative describing the applicant's ability and experience in overcoming community opposition to FLH and describing the methods and techniques that they will use to overcome any such opposition, should it occur.

(11) A separate one-page information sheet listing each of the “Application Scoring Criteria” contained in this Notice, followed by the page numbers of all relevant material and documentation that is contained in the proposal that supports these criteria.

V. Application Review Information

The initial application (or proposal) evaluation process designed for this RFP will consist of two phases. The first phase will evaluate the applicant's Statement of Work and the degree to which it sets forth measurable objectives that are consistent with the objectives of FLH-TA grant program. The second phase will evaluate the applicant's knowledge and ability to provide the management necessary for carrying out a FLH-TA grant program. Proposals will only compete against other proposals within the same region. Selection points will be awarded as follows:

Phase I—Statement of Work

The Statement of Work will be evaluated to determine the degree to which it outlines efficient and measurable monthly and annual outcomes as follows:

a. The minimum performance requirements of this Notice require that the applicant commit to targeting at least five areas (at least four of which are in different States). The more areas the applicant commits to targeting, the more scoring points they will be awarded. As stated earlier in this Notice, the more areas the applicant commits to the more loan application packages must be submitted. The amount will be established in the Statement of Work. The number of areas within the region that the applicant has committed to targeting for outreach activities:

(1) 5-7 targeted areas: 0 points

(2) 8 targeted areas: 5 points

(3) 9-10 targeted areas: 10 points

(4) 11-12 targeted areas: 15 points

(5) 13 or more areas: 20 points

a. RHS wants the applicant to cover as much of the grant region as possible. RHS does not want the applicant's efforts to be concentrated in a limited number of States. For this reason, additional points will be awarded to grant proposals that target areas in more than four States (the minimum requirement is four). Applications only compete within their grant region. The grant proposal commits to targeting areas in the following number of States:

(1) 4 States: 0 points

(2) 5 States: 5 points

(3) 6 States: 10 points

(4) 7 States: 15 points

(5) More than 7 States: 20 points

Phase II—Project Management

a. The number of successful multi-family or FLH loan or grant applications the applicant entity has assisted in developing and packaging:

(1) 0-5 applications: 0 points

(2) 6-10 applications: 10 points

(3) 11-15 applications: 20 points

(4) 16 or more applications: 30 points

b. The number of groups seeking loans or grants for the development of multi-family or FLH projects that the applicant entity has provided training and technical assistance.

(1) 0-5 groups: 0 points

(2) 6-10 groups: 5 points

(3) 11-15 groups: 10 points

(4) 16 or more groups: 15 points

c. The number of multi-family or FLH projects for which the applicant entity has assisted in estimating development and construction costs and obtaining the necessary permits and clearances:

(1) 0-5 projects: 0 points

(2) 6-10 projects: 5 points

(3) 11-15 projects: 10 points

(4) 16 or more projects: 15 points

d. The number of times the applicant entity has encountered community opposition and was able to overcome that opposition so that farm labor housing was successfully developed.

(1) 0-2 times: 0 points

(2) 2-5 times: 5 points

(3) 6-10 times: 10 points

(4) 11 or more times: 15 points

e. The number of times the applicant entity has been able to leverage funding from two or more sources for the development of a multi-family or FLH project.

(1) 0-5 times: 0 points

(2) 6-10 times: 5 points

(3) 11-15 times: 10 points

(4) 16 or more times: 15 points

f. The number of FLH projects that the applicant entity has assisted with on-going management (i.e., rent-up, maintenance, etc.):

(1) 0-5 FLH projects: 0 points

(2) 6-10 FLH projects: 5 points

(3) 11-15 FLH projects: 10 points

(4) 16 or more FLH projects: 15 points

The National Office will rank all pre-applications by region and distribute funds to the regions in rank order and within funding limits.

Tie Breakers—In the event two or more proposals within a region are scored with an equal amount of points, selections will be made in the following order:

(1) If an applicant has already had a proposal selected, their proposal will not be selected.

(2) If all or none of the applicants with equivalent scores have already had a proposal selected, the lowest cost proposal will be selected.

(3) If two or more proposals have equivalent scores, all or none of the applicants have already had a proposal selected, and the cost is the same, a proposal will be selected by a random lottery drawing.

RHS will notify all applicants whether their pre-applications have been accepted or rejected and provide appeal rights under 7 CFR part 11, as appropriate.

Reporting. Post-award reporting requirements can be found in the Grant Agreement.

Paperwork Reduction Act

The reporting requirements contained in this Notice have been approved by the Office of Management and Budget (OMB) under Control Number 0575-0181.

Non-Discrimination Requirements

The U.S. Department of Agriculture prohibits discrimination in all of its programs and activities on the basis of race, color, national origin, age, disability, and where applicable, sex, marital status, familial status, parental status, religion, sexual orientation, political beliefs, genetic information, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., STOP 9410, Washington, DC 20250-9410, or call toll free at (866) 632-9992 (English) or (800) 877-8339 (TDD) or (866) 377-8642 (English Federal—Relay) or (800) 845-6136 (Spanish Federal—Relay). “USDA is an equal opportunity provider, employer, and lender.”

Dated: May 13, 2016.
Tony Hernandez,
Administrator, Rural Housing Service.

[FR Doc. 2016-12068 Filed 5-20-16; 8:45 am]

BILLING CODE 3410-XV-P